GENERAL SERVICES ADMINISTRATION

Office of Management Services; Cancellation of a Optional Form by the Department of Defense

AGENCY: General Services Administration.

ACTION: Notice.

SUMMARY: The Department of Defense cancelled the following Optional Form because of low usage:

OF 73, Method 50 Package Label (Small)

DATES: Effective September 24, 2002.

FOR FURTHER INFORMATION CONTACT: Ms. Barbara Williams, General Services Administration, (202) 501-0581.

Dated: September 16, 2002.
Barbara M. Williams,
Deputy Standard and Optional Forms Management Officer, General Services Administration.

[FR Doc. 02-24174 Filed 9-23-02; 8:45 am]

BILLING CODE 6820-34-M